DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Feedback Survey for Semi-Annual Tsunami Warning Communications Test.

OMB Control Number: 0648-0539.

Form Number(s): NA.

Type of Request: Regular submission (extension of a current information collection).

Number of Respondents: 300.

Average Hours per Response: 5 minutes.

Burden Hours: 25.

Needs and Uses: This request is for extension of a current information collection.

This information collection supports the Tsunami Warning and Education Act, Public Law 109-424. To assess the effectiveness of NOAA/National Weather Service's (NWS) Tsunami Warning System, this survey is needed to gather specific feedback information following testing of the associated NWS communications systems. The tests are conducted annually, in March/April and again in September. Post-test feedback information will be requested from emergency managers, the media, law enforcement officials, local government agencies/officials, and the general public. The responses will be solicited for a limited period immediately following completion of the tests, not to exceed seven days. This will be a Web-based survey and will allow for efficient collection of information regarding the effectiveness of the Tsunami Warning System.

Affected Public: Individuals or households, state, local and tribal governments.

Frequency: Semi-annually.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: May 8, 2012.
Gwellnar Banks,
Management Analyst, Office of the Chief Information Officer.

[FR Doc. 2012-11386 Filed 5-10-12; 8:45 am]

BILLING CODE 3510-KE-P